DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Southeast Region Permit Family of Forms.

OMB Control Number: 0648-0205.

Form Number(s):.

Type of Request: Regular submission (revision/extension of a current information collection).

Number of Respondents: 9,606.

Average Hours Per Response: Application for vessels fishing in the Exclusive Economic Zone, dolphin/wahoo operator permit application, dealer permit application, 20 minutes; Aquaculture Live Rock Site Evaluation Report, 45 minutes; Rockfish Commercial Vessel Monitoring System Maintenance, 2 hours; zone transit notification, permit transfer and notarization, annual landings report for Gulf of Mexico shrimp, Aquacultured Live Rock Harvest Application, Aquacultured Live Rock Deposit, Notice of Intent to Harvest Aquacultured Live Rock, notification of lost or stolen trap, 5 minutes; notification of authorization of trap retrieval, 15 minutes.

Burden Hours: 3,596.

Needs and Uses: This request is for a revision of a currently approved information collection. National Marine Fisheries Service (NMFS) Southeast Region manages the United States (U.S.) fisheries of the exclusive economic zone (EEZ) off the South Atlantic, Caribbean, and Gulf of Mexico under the Fishery Management Plans (FMP) for each Region. The Regional Fishery Management Councils prepared the FMPs pursuant to the Magnuson-Stevens Fishery Conservation and Management Act. The regulations implementing the FMPs that have reporting requirements are at 50 CFR part 622.

The recordkeeping and reporting requirements at 50 CFR part 622 form the basis for this collection of information. NMFS Southeast Region requests information from fishery participants. This information, upon receipt, results in an increasingly more efficient and accurate database for management and monitoring of the fisheries of the EEZ off the South Atlantic, Caribbean, and Gulf of Mexico.

Affected Public: Business or other for-profit organizations.

Frequency: Annually and on occasion.

Respondent's Obligation: Mandatory.

OMB Desk Officer: OIRA_Submission@omb.eop.gov.

Copies of the above information collection proposal can be obtained by calling or writing Diana Hynek, Departmental Paperwork Clearance Officer, (202) 482-0266, Department of Commerce, Room 6616, 14th and Constitution Avenue, NW., Washington, DC 20230 (or via the Internet at dHynek@doc.gov).

Written comments and recommendations for the proposed information collection should be sent within 30 days of publication of this notice to OIRA_Submission@omb.eop.gov.

Dated: August 5, 2011.
Gwellnar Banks,
Management Analyst, Office of the Chief Information Officer.

[FR Doc. 2011-20288 Filed 8-9-11; 8:45 am]

BILLING CODE 3510-22-P